DEPARTMENT OF COMMERCE

National Oceanic and Atmospheric Administration

[I.D. 022205A]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene its Law Enforcement Advisory Panel (LEAP).

DATES: The meeting will be held on Tuesday, March 15, 2005 from 1 p.m. to 5 p.m.

ADDRESSES: These meetings will be held at the Grand Hotel Marriott Resort, Golf Club and Spa, One Grand Boulevard, Point Clear, AL.

Council address: Gulf of Mexico Fishery Management Council, 3018 North U.S. Highway 301, Suite 1000, Tampa, FL 33619.

FOR FURTHER INFORMATION CONTACT: Dr. Richard Leard, Deputy Executive Director, Gulf of Mexico Fishery Management Council; telephone: 813.228.2815.

SUPPLEMENTARY INFORMATION: The Gulf of Mexico Fishery Management Council (Council) will convene the Law Enforcement Advisory Panel (LEAP) to review law enforcement concerns regarding violations of the Flower Garden Banks National Marine Sanctuary and the Tortugas Shrimp Sanctuary. The LEAP will also discuss problems with repackaging of foreign shrimp. With regard to ongoing activities of the Council, the LEAP will review and possibly make recommendations regarding alternatives in the Final Draft Amendment 13 to the Fishery Management Plan for the Shrimp Fishery of the Gulf of Mexico, U.S. Waters, as well as an Options Paper that would potentially extend the existing moratorium on the issuance of new charter vessel permits, an Options Paper with alternatives for a Red Snapper Individual Fishing Quota (IFQ), and an Options Paper to potentially allow offshore aquaculture. The LEAP will also receive reports on the status of implementation for amendments and regulatory actions previously submitted by the Council and activity reports from the various state and Federal agencies.

The LEAP consists of principal law enforcement officers in each of the Gulf states, as well as the NMFS, U.S. Fish and Wildlife Service (FWS), the U.S. Coast Guard, and the National Oceanic and Atmospheric Administration's (NOAA) General Counsel. A copy of the agenda and related materials can be obtained by calling the Council office at 813-228-2815.

Although other non-emergency issues not on the agendas may come before the LEAP for discussion, in accordance with the Magnuson-Stevens Fishery Conservation and Management Act, those issues may not be the subject of formal action during this meeting. Actions of the LEAP will be restricted to those issues specifically identified in the agendas and any issues arising after publication of this notice that require emergency action under Section 305(c) of the Magnuson-Stevens Act, provided the public has been notified of the Council's intent to take action to address the emergency.

Special Accommodations

These meetings are physically accessible to people with disabilities. Requests for sign language interpretation or other auxiliary aids should be directed to Dawn Aring at the Council (see ADDRESSES) by March 7, 2005.

Dated: February 22, 2005.
Peter H. Fricke,
Acting Director, Office of Sustainable Fisheries, National Marine Fisheries Service.

[FR Doc. 05-3707 Filed 2-24-05; 8:45 am]

BILLING CODE 3510-22-S